FEDERAL COMMUNICATIONS COMMISSION

47 CFR Part 15

[ET Docket No. 98-153; FCC 02-48]

Ultra-Wideband Transmission Systems

AGENCY: Federal Communications Commission.

ACTION: Final rule; correction.

SUMMARY: On May 16, 2002 (67 FR 34852), the Commission published final rules in the First Report and Order which revised the Commission's rules to permit the marketing and operation of certain types of new products incorporating ultra-wideband technology. This document contains corrections to those rules.

DATES: Effective July 15, 2002.

FOR FURTHER INFORMATION CONTACT: John A. Reed, Office of Engineering and Technology, (202) 418-2455.

SUPPLEMENTARY INFORMATION: The Federal Communications Commission published a document revising part 15 in the Federal Register of May 16, 2002 (67 FR 34852). This document corrects the Federal Register as it appeared. In rule FR Doc. 02-11929 published on May 16, 2002 (67 FR 34852). The Commission is correcting a typographical error in § 15.517 resulting in the incorrect designation of paragraphs (e) through (g) and an incorrect reference in paragraph (e). We also correct a typographical error in the table in § 15.519(c) of the rules.

In rule FR Doc. No. 02-11929 published on May 16, 2002 (65 FR 34852) make the following corrections:

1. On page 34858 in the third column, and on page 34859 in the first column, in § 15.517, paragraphs (e), (f), and (g) are correctly designated as paragraphs (d), (e), and (f) and the reference in newly designated paragraph (d) introductory text is corrected to read as ``paragraph (c).''

2. On page 34859 in the second column, in § 15.519 correct the table in paragraph (c) to read as follows:

§ 15.519 [Corrected]

* * * * *

(c) * * *

Frequency in MHz | EIRP in dBm
960-1610 | −75.3
1610-1990 | −63.3
1990-3100 | −61.3
3100-10600 | −41.3
Above 10600 | −61.3

* * * * *

Federal Communications Commission.
Marlene H. Dortch,
Secretary.

[FR Doc. 02-14435 Filed 6-7-02; 8:45 am]

BILLING CODE 6712-01-P